DEPARTMENT OF HEALTH AND HUMAN SERVICES

Centers for Disease Control and Prevention

[30Day-05-04JY]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5976 or send an e-mail to omb@cdc.gov. Send written comments to CDC Desk Officer, Office of Management and Budget, Washington, DC via fax to (202) 395-6974. Written comments should be received within 30 days of this notice.

Proposed Project

Assessment of Occupational Exposures to Electric and Magnetic Fields (EMF)—New—National Institute for Occupational Safety and Health (NIOSH), Centers for Disease Control and Prevention (CDC).

This proposal is to conduct a validation study on an interview-based procedure for assessing occupational exposures to electric and magnetic fields (EMF) from AC electricity. Participants in the study will be asked to wear specially designed instruments to measure a range of EMF that employees encounter as part of their daily work practices. These devices have been field-tested and meet all safety requirements. This study will capture not only the magnetic field magnitude but also its frequencies, induced currents and contact currents. This study will provide important new information that will shed light on EMF and health effects on workers.

This study has the following objectives: (1) Validate an interview-based EMF exposure assessment algorithm against measurements of the time-weighted average (TWA) magnetic field magnitude used in previous epidemiologic studies, (2) calibrate the parameters in the algorithm in order to improve the exposure estimates, and (3) determine the correlation between the EMF exposures from the algorithm and biologically-based metrics measured by new instrumentation. These biologically-based metrics consist of either characteristics of the magnetic field that have produced biological effects in laboratory studies or currents in the body resulting from contact with charged surfaces. For the higher correlations with the TWA magnetic field magnitude, these data will be used to determine whether the exposure algorithm can be modified to accurately assess exposures to the biologically-based metrics.

This is a one-time study of workers of an electric utility in Canada and a Federal research laboratory in the U.S. There will be no cost to respondents except for their time.

Annualized Burden:

Respondents | Number of respondents | Number of responses/respondent | Average burden/response (in hrs.)
Worker—recruitment | 200 | 1 | 3/60
Worker—EMF monitoring | 72 | 1 | 6
Worker—interviews | 72 | 1 | 15/60

Dated: February 3, 2005.
Betsey Dunaway,
Acting Reports Clearance Officer, Office of the Chief Science Officer, Centers for Disease Control and Prevention.

[FR Doc. 05-2573 Filed 2-9-05; 8:45 am]

BILLING CODE 4163-18-P